DEPARTMENT OF JUSTICE

[OMB Number 1110-0001]

Agency Information Collection Activities; Proposed eCollection; eComments Requested; Return A—Monthly Return of Offenses Known to Police and Supplement to Return A—Monthly Return of Offenses Known to Police; Extension of a Currently Approved Collection

AGENCY: Federal Bureau of Investigation, Department of Justice.

ACTION: 30-Day notice.

SUMMARY: Department of Justice (DOJ), Federal Bureau of Investigation (FBI), Criminal Justice Information Services (CJIS) Division will be submitting the following information collection request to the Office of Management and Budget (OMB) for review and approval in accordance with the Paperwork Reduction Act of 1995. This proposed information collection was previously published in the Federal Register at xx FR xxxx, on Month xx, xxxx allowing for a 60 day comment period.

DATES: Comments are encourages and will be accepted for an additional 30 days until September 18, 2019.

FOR FURTHER INFORMATION CONTACT: Written comments and/or suggestions regarding the items contained in this notice, especially the estimated public burden and associated response time, should be directed to Mrs. Amy C. Blasher, Unit Chief, Federal Bureau of Investigation, CJIS Division, Module E-3, 1000 Custer Hollow Road, Clarksburg, West Virginia 26306; facsimile (304) 625-3566. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection:

1. Type of Information Collection: Extension of a currently approved collection.

2. Title of the Form/Collection: Return A—Monthly Return of Offenses Known to Police and Supplement to Return A—Monthly Return of Offenses Known to Police and Supplement of Return A—Monthly Return of Offenses Known to Police.

3. Agency form number, if any, and the applicable component of the Department sponsoring the collection: Form Number: 1-720 and 1-706 Sponsor: Criminal Justice Information Services Division, Federal Bureau of Investigation, Department of Justice.

4. Affected public who will be asked or required to respond, as well as a brief abstract: City, county, state, federal, and tribal law enforcement agencies. Abstract: Under Title 28, U.S. Code 534, Acquisition, Preservation, and Exchange of Identification Records; Appointments of Officials, 1930, this collection requests Part I offense and clearance data, as well as stolen and recovered monetary values of stolen property throughout the United States from city, county, state, tribal, and federal law enforcement agencies in order for the FBI UCR Program to serve as the national clearinghouse for the collection and dissemination of crime data and to publish these statistics in the Preliminary Semi-Annual Report and Crime in the United States.

5. An estimate of the total number of respondents and the amount of time estimated for an average respondent to respond/reply: There are approximately 18,576 law enforcement agencies within the universe of potential respondents. Based on current reporting patterns, approximately 9,672 law enforcement agency respondents would submit monthly resulting in 116,064 responses with an estimated response time of 7 minutes per response on this form. The remaining 7,027 agencies would provide responses through the National Incident-Based Reporting System covered under a different data collection.

6. An estimate of the total public burden (in hours) associated with the collection: There are approximately 9,672 hours, annual burden, associated with this information collection.

If additional information is required contact: Melody Braswell, Department Clearance Officer, United States Department of Justice, Justice Management Division, Policy and Planning Staff, Two Constitution Square, 145 N Street NE, Suite 3E.405B, Washington, DC 20530.

Dated: August 14, 2019.
Melody Braswell,
Department Clearance Officer, PRA, U.S. Department of Justice.

[FR Doc. 2019-17752 Filed 8-16-19; 8:45 am]

BILLING CODE 4410-02-P